DEPARTMENT OF ENERGY

Federal Energy Regulatory Commission

[Docket No. ER13-102-004]

New York Independent System Operator, Inc.; Notice of Compliance Filing

Take notice that on July 3, 2014, New York Independent System Operator, Inc. (NYISO) submitted a compliance filing to provide redline and clean versions of its Open Access Transmission Tariff (OATT) and Market Administration and Control Area Services Tariff (Services Tariff) revisions filed to comply with the requirements of Order Nos. 1000 and 1000-A.¹ NYISO states that the redline and clean versions of its OATT and Services Tariff constitute a supplemental ministerial filing to provide redline versions of the OATT and Services Tariff sections for which the NYISO requested a revised effective date on July 2, 2014.²

¹ Transmission Planning and Cost Allocation by Transmission Owning and Operating Public Utilities, Order No. 1000, 76 FR 49842 (Aug. 11, 2011), FERC Stats. & Regs. ¶ 31,323 (2011), order on reh'g, Order No. 1000-A, 77 FR 32184 (May 31, 2012), 139 FERC ¶ 61,132 (2012).

² See NYISO, Compliance Filing, Docket No. ER13-102-003 (filed July 2, 2014) (requesting deferral of the effective date of January 1, 2014 for its Open Access Transmission Tariff revisions filed to comply with the requirements of Order Nos. 1000 and 1000-A).

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 5 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on July 14, 2014.

Dated: July 8, 2014.
Kimberly D. Bose,
Secretary.

[FR Doc. 2014-16435 Filed 7-14-14; 8:45 am]

BILLING CODE 6717-01-P